DEPARTMENT OF STATE

[Public Notice: 11698]

60-Day Notice of Proposed Information Collection: Medical Examination for Visa or Refugee Applicant: DS-2054, DS-3025, DS-3026, DS-3030

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to midnight on Eastern Standard Time 60 days after date of publication in the Federal Register.

ADDRESSES: You may submit comments by any of the following methods:

• Web: Persons with access to the internet may comment on this notice by going to www.Regulations.gov. You can search for the document by entering “Docket Number: DOS-2022-0007” in the Search field. Then click the “Comment Now” button and complete the comment form.

• Email: PRA_BurdenComments@state.gov.

You must include the DS form number (if applicable), information collection title, and the OMB control number in the title or body of any correspondence. You should not submit case inquiries to either of the methods listed above. You should not include case numbers in any comment submitted via www.regulations.gov.

FOR FURTHER INFORMATION CONTACT: Direct requests for additional information regarding the collection listed in this notice, including requests for copies of the proposed collection instrument and supporting documents, to Tonya Whigham who may be reached at PRA_BurdenComments@state.gov or at 202-485-7635.

SUPPLEMENTARY INFORMATION:

• Title of Information Collection: Medical Examination for Visa or Refugee Applicant.

• OMB Control Number: 1405-0113.

• Type of Request: Extension of a Currently Approved Collection.

• Originating Office: Bureau of Consular Affairs, Visa Office (CA/VO).

• Form Number: Forms DS-2054, DS-3030, DS-3025, DS-3026.

• Respondents: Visa Applicants; Follow-to-Join Refugee/Asylum Applicants; Parole Applicants with Boarding Foils.

• Estimated Number of Respondents: 110,412.

• Estimated Number of Responses: 110,412.

• Average Time per Response: 1 hour.

• Total Estimated Burden Time:110,412 annual hours.

• Frequency: Once per respondent.

• Obligation to respond: Required to Obtain or Retain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

Forms for this collection are completed by panel physicians for refugees, noncitizens seeking a visa, and some individuals who need a boarding foil in order to be paroled into the United Sates. The collection records medical information necessary to determine whether noncitizens have medical conditions affecting the individual's eligibility for an immigration benefit or affecting the public health and requiring treatment.

Methodology

A panel physician, contracted by the consular post in accordance with instructions issued by the Centers for Disease Control (CDC), performs the medical examination of the applicant and completes the forms. Panel physicians complete Forms DS-3025, DS-3026, and DS-3030. Upon completing the medical examination, the examining panel physician submits a report to the consular section on Form DS-2054 and includes the DS-3024, DS-3026, and the DS-3030. The information provided in these forms assists the Department for visa adjudication, follow-to-join refugee adjudication, and for the purpose of issuing boarding foils for certain individuals seeking parole from the Department of Homeland Security, and is thereafter retained in the Department's systems. The information is also provided to the CDC.

Kevin E. Bryant,
Deputy Director, Office of Directives Management, Department of State.

[FR Doc. 2022-06829 Filed 3-30-22; 8:45 am]

BILLING CODE 4710-06-P